FEDERAL COMMUNICATIONS COMMISSION

[GN Docket No. 18-122; DA 20-1133; FRS 17114]

Wireless Telecommunications Bureau Announces C-Band Relocation Coordinator

AGENCY: Federal Communications Commission.

ACTION: Notice.

SUMMARY: In this document, the Wireless Telecommunications Bureau (Bureau) announces that RSM US LLP (RSM) satisfies the selection criteria established by the Commission in the 3.7 GHz Band Report and Order and will serve as the Relocation Coordinator for the 3.7-4.2 GHz transition process.

DATES: The Order was released on September 25, 2020.

ADDRESSES: Federal Communications Commission, 445 12th Street SW, Washington, DC 20554.

FOR FURTHER INFORMATION CONTACT: Anna Gentry of the Wireless Telecommunications Bureau, Mobility Division, at (202) 418-7769 or Anna.Gentry@fcc.gov.

SUPPLEMENTARY INFORMATION: This is a summary of the Order (DA 20-1133) released on September 25, 2020. The complete text of the Order is available for viewing via the Commission's ECFS website by entering the docket number, GN Docket No. 18-122. The complete text of the Order is also available for public inspection and copying from 8:00 a.m. to 4:30 p.m. Eastern Time (ET) Monday through Thursday or from 8:00 a.m. to 11:30 a.m. ET on Fridays in the FCC Reference Information Center, 445 12th Street SW, Room CY-B402, Washington, DC 20554, telephone 202-488-5300, fax 202-488-5563, or you may contact BCPI at its website: http://www.BCPIWEB.com. When ordering documents from BCPI, please provide the appropriate FCC document number, for example, DA 20-998.

Synopsis

On March 3, 2020, the Commission released the 3.7 GHz Band Report and Order (FCC 20-22), which adopted new rules to make available 280 megahertz of mid-band spectrum for flexible use, plus a 20 megahertz guard band, throughout the contiguous United States by transitioning existing services out of the lower portion and into the upper 200 megahertz of the 3.7-4.2 GHz band (C-band). The 3.7 GHz Report and Order allowed a search committee of eligible Fixed Satellite Service (FSS) space station operators to select, not later than July 31, 2020, a Relocation Coordinator that will be responsible for managing the overall transition and coordinating relocation actions among eligible FSS space station operators, incumbent FSS earth station operation, and new 3.7 GHz Service flexible-use licensees. The 3.7 GHz Report and Order required that the Relocation Coordinator “must be able to demonstrate that it has the requisite expertise to perform the duties required, which will include: (1) Coordinating the schedule for clearing the band; (2) performing engineering analysis, as necessary, to determine necessary earth station migration actions; (3) assigning obligations, as necessary, for earth station migrations and filtering; (4) coordinating with overlay licensees throughout the transition process; (5) assessing the completion of the transition in each PEA and determining overlay licensees' ability to commence operations; and (6) mediating scheduling disputes.”

On July 31, 2020, eligible space station operators announced that they had selected RSM to serve as the Relocation Coordinator. The search committee determined that RSM has the requisite expertise to fulfill the criteria the Commission adopted in the 3.7 GHz Report and Order and codified in its rules. In a public notice, the Bureau sought comment on whether RSM satisfies these criteria. In response, the satellite operators submitted a filing describing RSM's qualifications, organizational structure, and plan to satisfy each of the responsibilities set forth in the 3.7 GHz Report and Order. No commenters opposed RSM's selection.

After reviewing the record regarding RSM and its qualifications, the Bureau finds and announces by this Order that RSM has demonstrated that it has the requisite expertise to perform the duties that section 27.1413(b) of our rules, 47 CFR 27.1413(b), requires a relocation coordinator for the C-band transition to be capable of performing.

Federal Communications Commission.
Amy Brett,
Associate Division Chief, Competition and Infrastructure Policy Division, Wireless Telecommunications Bureau.

[FR Doc. 2020-22086 Filed 10-5-20; 8:45 am]

BILLING CODE 6712-01-P